DEPARTMENT OF ENERGY

Federal Energy Regulatory Commission

Combined Notice of Filings #1

April 3, 2006.

Take notice that the Commission received the following electric rate filings.

Docket Numbers: ER01-1760-004.

Applicants: Haleywest L.L.C.

Description: Haleywest LLC submits an amendment to its market-based rate schedule.

Filed Date: 3/28/2006.

Accession Number: 20060331-0192.

Comment Date: 5 p.m. Eastern Time on Tuesday, April 18, 2006.

Docket Numbers: ER01-205-013; ER98-2640-011; ER98-4590-009; ER99-1610-016.

Applicants: Xcel Energy Services Inc.; Northern States Power Company; Northern States Power Company (Wisconsin); Public Service Company of Colorado; Southwestern Public Service Company.

Description: Xcel Energy Services Inc on behalf of Xcel Energy Operating Companies submits a change in status report relating to NSP's market-based rate authority.

Filed Date: 3/28/2006.

Accession Number: 20060331-0190.

Comment Date: 5 p.m. Eastern Time on Tuesday, April 18, 2006.

Docket Numbers: ER04-449-013.

Applicants: New York Independent System Operator, Inc.

Description: New York Independent System Operator submits its revised final Status Report to the Commission on the progress it is making with stakeholders on the issue of deliverability of electric generating capacity etc.

Filed Date: 3/28/2006.

Accession Number: 20060331-0189.

Comment Date: 5 p.m. Eastern Time on Friday, April 7, 2006.

Docket Numbers: ER06-406-001.

Applicants: PJM Interconnection, LLC.

Description: PJM Interconnection, LLC submits a compliance filing pursuant to the Commission's 2/24/06 order, amending its reliability assurance agreements.

Filed Date: 3/27/2006.

Accession Number: 20060330-0063.

Comment Date: 5 p.m. Eastern Time on Monday, April 17, 2006.

Docket Numbers: ER06-427-002.

Applicants: Mystic Development, LLC.

Description: Mystic Development, LLC submits amendment to its Fuel Price Index et al., in reference to the Commission's 2/24/06 order.

Filed Date: 3/27/2006.

Accession Number: 20060330-0062.

Comment Date: 5 p.m. Eastern Time on Monday, April 17, 2006.

Docket Numbers: ER06-642-001.

Applicants: Brookfield Power Piney & Deep Creek LLC.

Description: Brookfield Power Piney & Deep Creek, LLC submits an amendment to its notice of succession pursuant to the Commission's 3/2/06 and 3/6/06 requests.

Filed Date: 3/28/2006.

Accession Number: 20060331-0185.

Comment Date: 5 p.m. Eastern Time on Tuesday, April 7, 2006.

Docket Numbers: ER06-653-001.

Applicants: Entergy Nuclear Power Marketing, LLC.

Description: Entergy Services Inc, agent for its Entergy Nuclear Power Marketing LLC submits a supplement to its 2/21/06 filing.

Filed Date: 3/20/2006.

Accession Number: 20060331-0183.

Comment Date: 5 p.m. Eastern Time on Monday, April 10, 2006.

Docket Numbers: ER06-684-001.

Applicants: UGI Utilities, Inc.; Allegheny Energy Supply Company, L.L.C.

Description: UGI Utilities Inc. submits an amendment to its 2/28/06 Interconnection Agreement with Allegheny Energy Supply Co LLC.

Filed Date: 3/28/2006.

Accession Number: 20060331-0182.

Comment Date: 5 p.m. Eastern Time on Tuesday, April 7, 2006.

Docket Numbers: ER06-685-001.

Applicants: UGI Development Company; UGI Utilities, Inc.

Description: UGI Utilities submits its compliance filing to reflect the effective date of 3/1/06 in the footers of the IOA with UGI Development Company under the requirements of Order 614.

Filed Date: 3/28/2006.

Accession Number: 20060331-0181.

Comment Date: 5 p.m. Eastern Time on Tuesday, April 18, 2006.

Docket Numbers: ER06-721-001.

Applicants: American Electric Power Service Corp.

Description: American Electric Power Service Cooperation, as agent for Kentucky Power Co et al. submits an amendment to the 3/10/06 filing, executed interconnection agreement between AEP and Louisville Gas and Electric Co et al., filed on 3/10/06.

Filed Date: 3/27/2006.

Accession Number: 20060330-0066.

Comment Date: 5 p.m. Eastern Time on Monday, April 17, 2006.

Docket Numbers: ER06-788-000.

Applicants: Southern California Edison Company.

Description: Southern California Edison Co submits an amendment to Third Revised Sheet 25 et al., to FERC Electric Tariff, Second Revised Volume 6 pursuant to Section 205 of the Federal Power Act etc.

Filed Date: 3/27/2006.

Accession Number: 20060328-0078.

Comment Date: 5 p.m. Eastern Time on Monday, April 17, 2006.

Docket Numbers: ER06-789-000.

Applicants: Nevada Power Company.

Description: Nevada Power submits an executed Service Agreement for Network Integration Transmission Service Retail Access Transmission Service among Nevada Power's Merchant Function, the Colorado River Commission et al.

Filed Date: 3/27/2006.

Accession Number: 20060328-0020.

Comment Date: 5 p.m. Eastern Time on Monday, April 17, 2006.

Docket Numbers: ER06-790-000.

Applicants: Midwest Independent Transmission System Operator, Inc.

Description: Midwest Independent Transmission System Operator Inc. submits proposed revisions to Schedules 16 and 17 of its Open Access Transmission and Energy Markets Tariff, FERC Electric Tariff, Third Revised Volume 1.

Filed Date: 3/27/2006.

Accession Number: 20060330-0059.

Comment Date: 5 p.m. Eastern Time on Monday, April 17, 2006.

Docket Numbers: ER06-792-000.

Applicants: Norge Power Marketing Corporation.

Description: Norge Power Marketing Corp submits an application for market-based rate authority, acceptance of initial rate schedule, waivers and blanket authority.

Filed Date: 3/27/2006.

Accession Number: 20060330-0060.

Comment Date: 5 p.m. Eastern Time on Monday, April 17, 2006.

Docket Numbers: ER06-793-000.

Applicants: Southwest Power Pool, Inc.

Description: Southwest Power Pool Inc submits its revisions to its regional Open Access Transmission Tariff to incorporate Sunflower Electric Power Corp as a Transmission Owner participating in the SPP Tariff.

Filed Date: 3/28/2006.

Accession Number: 20060330-0065.

Comment Date: 5 p.m. Eastern Time on Tuesday, April 18, 2006.

Docket Numbers: ER06-800-000.

Applicants: Midwest Independent Transmission System; FirstEnergy Service Company.

Description: Midwest Independent Transmission System Operator, Inc, et al., on behalf of American Transmission Systems submits proposed revisions to Attachment O transmission rate formula under Midwest ISO's OAT & EMT, FERC Electric Tariff Volume 1.

Filed Date: 3/28/2006.

Accession Number: 20060331-0180.

Comment Date: 5 p.m. Eastern Time on Tuesday, April 18, 2006.

Docket Numbers: ER99-3168-006.

Applicants: Astoria Generating Company Acquisitions.

Description: Astoria Generating Co LP submits a notice of change in status for market based rate authority.

Filed Date: 3/27/2006.

Accession Number: 20060330-0064.

Comment Date: 5 p.m. Eastern Time on Monday, April 17, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov. or call (866) 208-3676 (toll free). For TTY, call (202) 502-8659.

Magalie R. Salas,
Secretary.

[FR Doc. E6-5292 Filed 4-10-06; 8:45 am]

BILLING CODE 6717-01-P